DEPARTMENT OF AGRICULTURE

Submission for OMB Review; Comment Request, Correction

September 29, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Consumer Focus Groups.

OMB Control Number: 0583-New.

Summary of Collection: The Food Safety and Inspection Service (FSIS) has been delegated the authority to exercise the functions of the Secretary as provided in the Federal Meat Inspection Act (FMIA) (21 U.S.C. 601 et seq.), the Poultry Products Inspection Act (PPIA) (21 U.S.C. 451 et seq.), and the Egg Products Inspection Act (EPIA) (21 U.S.C. 1031 et seq.). These statutes mandate that FSIS protect the public by verifying that meat and poultry products are safe, wholesome, unadulterated, and properly labeled and packaged. To assist in fulfilling its public health mission, FSIS needs at times to obtain information from consumers to assess the effectiveness of its consumer protection initiatives and to gain data to support Agency decision-making and policy formulation. Foodborne illness is a significant public health problem in the United States. FSIS is seeking information about the content of public health messages, and methods of delivery of those messages, that will promote safe food handling and preparation practices among consumers. FSIS will use consumer focus groups to determine the perceptions of segments of the general population and at-risk populations regarding relevant food safety messages.

Need and Use of the Information: FSIS will collect information to conduct qualitative research with consumers to (1) assess consumers' understanding of cooking instructions for specific products (e.g. uncooked, breaded, boneless poultry products) and (2) collect information on consumers' understanding of existing public health messages (e.g., use a thermometer to check the doneness of meat and poultry). FSIS will use the results of the focus groups to inform the development of labeling policy for meat, poultry, and egg products and to refine, and to decide how to disseminate, public health messages to ensure that they are useful for effecting behavioral changes and reducing foodborne illness.

Description of Respondents: Individuals or households.

Number of Respondents: 400.

Frequency of Responses: Reporting: One time.

Total Burden Hours: 215.

Ruth Brown,
Departmental Information Collection Clearance Officer.

[FR Doc. E9-23870 Filed 10-2-09; 8:45 am]

BILLING CODE 3410-DM-P